DEPARTMENT OF HOMELAND SECURITY

Federal Emergency Management Agency

[Docket ID FEMA-2012-0003; Internal Agency Docket No. FEMA-B-1243]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 26, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1243, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Greene County, Arkansas, and Incorporated Areas
Maps Available for Inspection Online at: http://www.rampp-team.com/ar.htm
City of Paragould | City Hall, 301 West Court Street, Paragould, AR 72450.
Unincorporated Areas of Greene County | Greene County Courthouse, 306 West Court Street, Paragould, AR 72450.
Cedar County, Iowa, and Incorporated Areas
Maps Available for Inspection Online at: http://www.starr-team.com/starr/RegionalWorkspaces/RegionVII/CedarCoIA/Preliminary%20Maps/Forms/AllItems.aspx
City of Bennett | City Hall, 201 Main Street, Bennett, IA 52721.
City of Durant | City Hall, 402 6th Street, Durant, IA 52747.
City of Lowden | City Hall, 501 Main Street, Lowden, IA 52255.
City of Mechanicsville | City Hall, 100 East 1st Street, Mechanicsville, IA 52306.
City of Stanwood | City Hall, 209 East Broadway Street, Stanwood, IA 52337.
City of Tipton | City Hall, 407 Lynn Street, Tipton, IA 52772.
City of West Branch | City Offices, 110 North Poplar Street, West Branch, IA 52358.
Unincorporated Areas of Cedar County | Cedar County Courthouse, 400 Cedar Street, Tipton, IA 52772.
Franklin County, Kentucky, and Incorporated Areas
Maps Available for Inspection Online at: http://www.bakeraecom.com/index.php/kentucky/Franklin
City of Frankfort | Planning and Zoning Department, 315 West 2nd Street, Frankfort, KY 40602.
Unincorporated Areas of Franklin County | Franklin County Courthouse, 315 West Main Street, Frankfort, KY 40601.
Pendleton County, Kentucky, and Incorporated Areas
Maps Available for Inspection Online at: http://www.bakeraecom.com/index.php/kentucky/pendleton
City of Butler | City Hall, 102 Front Street, Butler, KY 41006.
City of Falmouth | City Hall, 230 Main Street, Falmouth, KY 41040.
City of Williamstown | City Building, 400 North Main Street, Williamstown, KY 41097.
Unincorporated Areas of Pendleton County | Pendleton County Judge's Office, 233 Main Street, Falmouth, KY 41040.
Weber County, Utah, and Incorporated Areas
Maps Available for Inspection Online at: http://www.bakeraecom.com/index.php/utah/weber-county/
City of Riverdale | City Hall, 4600 South Weber River Drive, Riverdale, UT 84405.
City of Uintah | City Hall, 2191 East 6550 South, Uintah, UT 84405.
Town of Huntsville | Town Hall, 7309 East 200 South, Huntsville, UT 84317.
Unincorporated Areas of Weber County | Weber County Government Building, 2380 Washington Boulevard, Ogden, UT 84401.
Waushara County, Wisconsin, and Incorporated Areas
Maps Available for Inspection Online at: http://www.starr-team.com/starr/RegionalWorkspaces/RegionV/WausharaWI/Preliminary%20Maps/Forms/AllItems.aspx
City of Berlin | City Hall, 108 North Capron Street, Berlin, WI 54923.
City of Wautoma | City Hall, 210 East Main Street, Wautoma, WI 54982.
Unincorporated Areas of Waushara County | Waushara County Courthouse, 209 South Saint Marie Street, Wautoma, WI 54982.
Village of Coloma | Village Hall, 155 Front Street, Coloma, WI 54930.
Village of Hancock | Village Office, 420 North Jefferson Street, Hancock, WI 54943.
Village of Lohrville | Village Hall, 113 Park Road, Lohrville, WI 54970.
Village of Plainfield | Village Hall, 114 South Main Street, Plainfield, WI 54966.
Village of Redgranite | Village Hall, 161 Dearborn Street, Redgranite, WI 54970.
Village of Wild Rose | Village Hall, 500 Main Street, Wild Rose, WI 54984.

(Catalog of Federal Domestic Assistance No. 97.022, “Flood Insurance.”)

Dated: March 15, 2012.
Sandra K. Knight,
Deputy Associate Administrator for Mitigation, Department of Homeland Security, Federal Emergency Management Agency.

[FR Doc. 2012-7394 Filed 3-27-12; 8:45 am]

BILLING CODE 9110-12-P